FEDERAL HOUSING FINANCE AGENCY

[No. 2011-N-07]

Federal Home Loan Bank Members Selected for Community Support Review

AGENCY: Federal Housing Finance Agency.

ACTION: Notice.

SUMMARY: The Federal Housing Finance Agency (FHFA) is announcing the Federal Home Loan Bank (Bank) members it has selected for the 2010 third round review cycle under the FHFA's community support requirements regulation. This notice also prescribes the deadline by which Bank members selected for review must submit Community Support Statements to FHFA.

DATES: Bank members selected for the review cycle under the FHFA's community support requirements regulation must submit completed Community Support Statements to FHFA on or before August 1, 2011.

ADDRESSES: Bank members selected for the 2010 third round review cycle under the FHFA's community support requirements regulation must submit completed Community Support Statements to FHFA either by hard-copy mail at the Federal Housing Finance Agency, Housing Mission and Goals, 1625 Eye Street, NW., Washington, DC 20006, or by electronic mail at hmgcommunitysupportprogram@fhfa.gov.

FOR FURTHER INFORMATION CONTACT: Rona Richardson, Office Assistant, Housing Mission and Goals, Federal Housing Finance Agency, by telephone at 202-408-2945, by electronic mail at Rona.Richardson@FHFA.gov, or by hard-copy mail at the Federal Housing Finance Agency, 1625 Eye Street, NW., Washington, DC 20006.

SUPPLEMENTARY INFORMATION:

I. Selection for Community Support Review

Section 10(g)(1) of the Federal Home Loan Bank Act (Bank Act) requires FHFA to promulgate regulations establishing standards of community investment or service Bank members must meet in order to maintain access to long-term advances. See 12 U.S.C. 1430(g)(1). The regulations promulgated by FHFA must take into account factors such as the Bank member's performance under the Community Reinvestment Act of 1977 (CRA), 12 U.S.C. 2901 et seq., and record of lending to first-time homebuyers. See 12 U.S.C. 1430(g)(2). Pursuant to section 10(g) of the Bank Act, FHFA has promulgated a community support requirements regulation that establishes standards a Bank member must meet in order to maintain access to long-term advances, and review criteria FHFA must apply in evaluating a member's community support performance. See 12 CFR Part 1290. The regulation includes standards and criteria for the two statutory factors—CRA performance and record of lending to first-time homebuyers. 12 CFR 1290.3. Only members subject to the CRA must meet the CRA standard. 12 CFR 1290.3(b). All members, including those not subject to CRA, must meet the first-time homebuyer standard. 12 CFR 1290.3(c).

Under the rule, FHFA selects approximately one-eighth of the members in each Bank district for community support review each calendar quarter. 12 CFR 1290.2(a). FHFA will not review an institution's community support performance until it has been a Bank member for at least one year. Selection for review is not, nor should it be construed as, any indication of either the financial condition or the community support performance of the member.

Each Bank member selected for review must complete a Community Support Statement and submit it to FHFA by the August 1, 2011 deadline prescribed in this notice. 12 CFR 1290.2(b)(1)(ii) and (c). On or before July 1, 2011, each Bank will notify the members in its district that have been selected for the 2010 third round community support review cycle that they must complete and submit to FHFA by the deadline a Community Support Statement. 12 CFR 1290.2(b)(2)(i). The member's Bank will provide a blank Community Support Statement Form (OMB No. 2590-0005), which also is available on the FHFA's Web site: http://www.fhfa.gov/webfiles/2924/FHFAForm060.pdf. Upon request, the member's Bank also will provide assistance in completing the Community Support Statement.

FHFA has selected the following members for the 2010 third round community support review cycle:

Federal Home Loan Bank of Boston—District 1
Northwest Community Bank | Winsted | Connecticut.
Aroostook County Federal Savings & Loan Association | Caribou | Maine.
Kennebec Federal Savings and Loan Association | Waterville | Maine.
First Federal Savings & Loan Association of Bath | Bath | Maine.
Camden National Bank | Camden | Maine.
Bar Harbor Bank and Trust | Bar Harbor | Maine.
Kennebunk Savings Bank | Kennebunk | Maine.
Colonial Federal Savings Bank | Quincy | Massachusetts.
Boston Private Bank & Trust Company | Boston | Massachusetts.
Danversbank | Danvers | Massachusetts.
Mechanics' Co-operative Bank | Taunton | Massachusetts.
The Savings Bank | Wakefield | Massachusetts.
Colonial Co-operative Bank | Gardner | Massachusetts.
Eagle Bank | Everett | Massachusetts.
Hingham Institution for Savings | Hingham | Massachusetts.
Northampton Cooperative Bank | Northampton | Massachusetts.
Cambridge Savings Bank | Cambridge | Massachusetts.
PeoplesBank | Holyoke | Massachusetts.
Clinton Savings Bank | Clinton | Massachusetts.
First Trade Union Bank | Boston | Massachusetts.
Reading Co-operative Bank | Reading | Massachusetts.
Spencer Savings Bank | Spencer | Massachusetts.
Foxboro Federal Savings | Foxboro | Massachusetts.
Middlesex Federal Savings, F.A. | Somerville | Massachusetts.
Georgetown Savings Bank | Georgetown | Massachusetts.
Saugusbank, A Cooperative Bank | Saugus | Massachusetts.
Federal Savings Bank | Dover | New Hampshire.
Salem Co-operative Bank | Salem | New Hampshire.
Franklin Savings Bank | Franklin | New Hampshire.
Newport Federal Savings Bank | Newport | Rhode Island.
Northfield Savings Bank | Northfield | Vermont.
Federal Home Loan Bank of New York—District 2
Amboy Bank | Old Bridge | New Jersey.
OceanFirst Bank | Tom Rivers | New Jersey.
Roma Bank | Robbinsville | New Jersey.
Glen Rock Savings Bank | Hawthorne | New Jersey.
GSL Savings Bank | Guttenberg | New Jersey.
Audubon Savings Bank | Audubon | New Jersey.
Century Savings Bank | Vineland | New Jersey.
Kearny Federal Savings Bank | Fairfield | New Jersey.
Gloucester County Federal Savings Bank | Sewell | New Jersey.
Oritani Savings Bank | Township of Washington | New Jersey.
Wallkill Valley Federal Savings & Loan Association | Wallkill | New York.
Provident Bank | Montebello | New York.
Glens Falls National Bank and Trust Company | Glens Falls | New York.
Massena Savings & Loan Association | Massena | New York.
Evans Bank | Hamburg | New York.
Cross County Federal Savings Bank | Middle Village | New York.
Maple City Savings Bank, FSB | Hornell | New York.
The Lyons National Bank | Lyons | New York.
Cattaraugus County Bank | Little Valley | New York.
Five Star Bank | Warsaw | New York.
Canandaigua National Bank and Trust Company | Canandaigua | New York.
The Berkshire Bank | New York | New York.
Oriental Bank & Trust | San Juan | Puerto Rico.
Federal Home Loan Bank of Pittsburgh—District 3
First Federal Savings & Loan Association of Greene County | Waynesburg | Pennsylvania.
Slovenian Savings & Loan Association of Franklin-Conemaugh | Conemaugh | Pennsylvania.
Reliance Bank | Altoona | Pennsylvania.
United-American Savings Bank | Pittsburgh | Pennsylvania.
Prudential Savings Bank | Philadelphia | Pennsylvania.
Slovak Savings Bank | Pittsburgh | Pennsylvania.
Eureka Bank | Pittsburgh | Pennsylvania.
Polonia Bank | Huntingdon Valley | Pennsylvania.
The First National Bank of Mifflintown | Mifflintown | Pennsylvania.
VIST Bank | Wyomissing | Pennsylvania.
Hamlin Bank and Trust Company | Smethport | Pennsylvania.
Liberty Savings Bank, FSB | Pottsville | Pennsylvania.
Washington Financial Bank | Washington | Pennsylvania.
First Citizens National Bank | Mansfield | Pennsylvania.
Peoples State Bank of Wyalusing | Wyalusing | Pennsylvania.
West View Savings Bank | Pittsburgh | Pennsylvania.
Eagle National Bank | Upper Darby | Pennsylvania.
The Bryn Mawr Trust Company | Bryn Mawr | Pennsylvania.
Mauch Chunk Trust Company | Jim Thorpe | Pennsylvania.
Republic First Bank | Philadelphia | Pennsylvania.
Clarion County Community Bank | Clearfield | Pennsylvania.
First Federal Savings Bank | Monessen | Pennsylvania.
Northwest Savings Bank | Warren | Pennsylvania.
Community State Bank of Orbisonia | Orbisonia | Pennsylvania.
Beneficial Mutual Savings Bank | Philadelphia | Pennsylvania.
Nextier Bank, NA | Evans City | Pennsylvania.
City National Bank of WV | Cross Lanes | West Virginia.
United Bank, Inc. | Parkersburg | West Virginia.
Federal Home Loan Bank of Atlanta—District 4
Brantley Bank and Trust Company | Brantley | Alabama.
The Slocomb National Bank | Slocomb | Alabama.
Bank of Wedowee | Wedowee | Alabama.
First National Bank | Hamilton | Alabama.
FirstState Bank | Lineville | Alabama.
The Exchange Bank of Alabama | Altoona | Alabama.
First Citizens Bank | Luverne | Alabama.
Frontier Bank | Chelsea | Alabama.
Central State Bank | Calera | Alabama.
Security Federal Savings Bank | Jasper | Alabama.
The Camden National Bank | Camden | Alabama.
First State Bank of Florida Keys | Key West | Florida.
Mercantile Commercebank, National Association | Miami | Florida.
Natbank, National Association | Hollywood | Florida.
Wauchula State Bank | Wauchula | Florida.
Bank of St. Augustine | St. Augustine | Florida.
Urban Trust Bank | Orlando | Florida.
The Claxton Bank | Claxton | Georgia.
Peoples Bank | Lyons | Georgia.
Gateway Bank and Trust | Ringgold | Georgia.
Newton Federal Bank | Covington | Georgia.
Bank of Alapaha | Alapaha | Georgia.
The Citizens Bank | Nashville | Georgia.
Farmers & Merchants Bank | Statesboro | Georgia.
BankSouth | Greensboro | Georgia.
Capital Bank | Fort Oglethorpe | Georgia.
Farmers State Bank | Lincolnton | Georgia.
Spivey State Bank | Swainsboro | Georgia.
Mount Vernon Bank | Mt. Vernon | Georgia.
Central Bank of Georgia | Ellaville | Georgia.
Bank of Eastman | Eastman | Georgia.
Farmers and Merchants Bank | Eatonton | Georgia.
Bank of Camilla | Camilla | Georgia.
Presidential Bank, FSB | Bethesda | Maryland.
Community First Bank | Baltimore | Maryland.
Severn Savings Bank, F.S.B. | Annapolis | Maryland.
Easton Bank and Trust | Easton | Maryland.
First Shore Federal Savings & Loan Association | Salisbury | Maryland.
The Peoples Bank | Chestertown | Maryland.
Saint Casimirs Savings Bank | Baltimore | Maryland.
Eastern Savings Bank, FSB | Hunt Valley | Maryland.
Piedmont Federal Savings Bank | Winston Salem | North Carolina.
Branch Banking and Trust Company | Lumberton | North Carolina.
High Point Bank and Trust Company | High Point | North Carolina.
The East Carolina Bank | Engelhard | North Carolina.
RBC Bank (USA) | Raleigh | North Carolina.
The Bank of Charlotte County | Phenix | Virginia.
Virginia Commonwealth Bank | Petersburg | Virginia.
Valley Bank | Roanoke | Virginia.
Community Bank | Staunton | Virginia.
First State Bank | Danville | Virginia.
Federal Home Loan Bank of Cincinnati—District 5
Central Kentucky Federal Savings Bank | Danville | Kentucky.
The Citizens National Bank | Lebanon | Kentucky.
Carrollton Federal Bank | Carrollton | Kentucky.
Bank of Edmonson County | Brownsville | Kentucky.
Citizens Bank & Trust Company | Campbellsville | Kentucky.
The First National Bank of Muhlenburg County | Central City | Kentucky.
Farmers National Bank | Walton | Kentucky.
Bank of Clarkson | Clarkson | Kentucky.
Traditional Bank, Inc. | Mt. Sterling | Kentucky.
Kentucky Home Bank, Inc. | Bardstown | Kentucky.
Citizens Bank | Mt. Vernon | Kentucky.
Home Federal Bank Corporation | Middlesboro | Kentucky.
The Farmers National Bank of Cynthiana | Cynthiana | Kentucky.
First Federal Bank | Lexington | Kentucky.
First Federal Savings & Loan Association of Morehead | Morehead | Kentucky.
Commonwealth Bank, FSB | Mt. Sterling | Kentucky.
The Home Savings and Loan Company of Kenton, Ohio | Kenton | Ohio.
Ohio River Bank | Ironton | Ohio.
Greenville Federal Savings and Loan Association | Greenville | Ohio.
First Federal Bank of the Midwest | Defiance | Ohio.
Ohio Heritage Bank | Coshocton | Ohio.
Valley Savings Bank | Cuyahoga Falls | Ohio.
Monroe Federal Savings and Loan Association | Tipp City | Ohio.
Adams County Building and Loan Company | West Union | Ohio.
The National Bank of Oak Harbor | Oak Harbor | Ohio.
Home Savings Bank | Wapakoneta | Ohio.
Peoples Savings and Loan Company | Bucyrus | Ohio.
Columbia Savings Bank | Cincinnati | Ohio.
Home City Federal Savings Bank | Springfield | Ohio.
The Brookville Building and Savings Association | Brookville | Ohio.
The Citizens National Bank of Bluffton | Bluffton | Ohio.
Liberty Federal Savings Bank | Ironton | Ohio.
The Franklin Savings and Loan Company | Cincinnati | Ohio.
New Foundation Loan and Building Company | Cincinnati | Ohio.
Fairfield Federal Savings & Loan Association of Lancaster | Lancaster | Ohio.
Home Savings Bank | Kent | Ohio.
Belmont Savings Bank | Bellaire | Ohio.
North Valley Bank | Zanesville | Ohio.
Leesburg Federal Savings Bank | Leesburg | Ohio.
First Federal Savings & Loan Association of Lakewood | Lakewood | Ohio.
The Park National Bank | Newark | Ohio.
American Savings Bank, FSB | Portsmouth | Ohio.
The Citizens Banking Company | Sandusky | Ohio.
Warsaw Federal Savings & Loan Association of Cincinnati | Cincinnati | Ohio.
The Citizens Bank of Logan | Logan | Ohio.
NCB, FSB | Hillsboro | Ohio.
1st National Bank | Lebanon | Ohio.
Sherwood State Bank | Sherwood | Ohio.
Farmers and Merchants Bank | Dyer | Tennessee.
First Citizens National Bank of Dyersburg | Dyersburg | Tennessee.
Home Federal Bank of Tennessee | Knoxville | Tennessee.
First South Credit Union | Bartlett | Tennessee.
F&M Bank | Clarksville | Tennessee.
The Bank of Jackson | Jackson | Tennessee.
Bank of Bartlett | Bartlett | Tennessee.
Elizabethton Federal Savings Bank | Elizabethton | Tennessee.
TNBANK | Oak Ridge | Tennessee.
Citizens Bank | New Tazewell | Tennessee.
Federal Home Loan Bank of Indianapolis—District 6
First Merchants Bank, NA | Muncie | Indiana.
American Savings, FSB | Munster | Indiana.
Farmers and Mechanics Federal Savings & Loan Association | Bloomfield | Indiana.
Independent Federal Credit Union | Anderson | Indiana.
The First State Bank | Bourbon | Indiana.
Peoples FSB of Dekalb County | Auburn | Indiana.
First Federal Savings Bank | Evansville | Indiana.
First Financial Bank | Terre Haute | Indiana.
Home Bank, SB | Martinsville | Indiana.
La Porte Savings Bank | La Porte | Indiana.
Mid-Southern Savings Bank, FSB | Salem | Indiana.
Mutual, FSB | Muncie | Indiana.
Owen County State Bank | Spencer | Indiana.
Peoples Bank, SB | Munster | Indiana.
Security Federal Savings Bank | Logansport | Indiana.
The First National Bank of Monterey | Monterey | Indiana.
Bank of Wolcott | Wolcott | Indiana.
Indiana Bank and Trust Co. | Columbus | Indiana.
Hastings City Bank | Hastings | Michigan.
Commercial Bank | Alma | Michigan.
Eaton Federal Savings Bank | Charlotte | Michigan.
First Federal of Northern Michigan | Alpena | Michigan.
Tri-County Bank | Brown City | Michigan.
First National Bank of St. Ignace | St. Ignace | Michigan.
Kalamazoo County State Bank | Schoolcraft | Michigan.
Northwestern Bank | Traverse City | Michigan.
Thumb National Bank & Trust | Pigeon | Michigan.
Federal Home Loan Bank of Chicago—District 7
1st State Bank of Mason City | Mason City | Illinois.
BankFinancial, FSB | Burr Ridge | Illinois.
Citizens First National Bank | Princeton | Illinois.
Community Bank—Wheaton/Glen Ellyn | Glen Ellyn | Illinois.
Diamond Bank FSB | Chicago | Illinois.
First National Bank of Illinois | Lansing | Illinois.
First State Bank of Illinois | LaHarpe | Illinois.
Herrin Security Bank | Herrin | Illinois.
Illini State Bank | Oglesby | Illinois.
Mutual Federal Bank | Chicago | Illinois.
National Bank of Petersburg | Petersburg | Illinois.
Oak Bank | Chicago | Illinois.
South End Savings, s.b. | Homewood | Illinois.
The Bradford National Bank | Greenville | Illinois.
West Suburban Bank | Lombard | Illinois.
Central Federal Savings & Loan Association of Chicago | Chicago | Illinois.
Eureka Savings Bank | La Salle | Illinois.
Farmers State Bank of Camp Point | Camp Point | Illinois.
First Federal Savings Bank of Champaign-Urbana | Champaign | Illinois.
First Security Bank | Mackinaw | Illinois.
Glenview State Bank | Glenview | Illinois.
Herget Bank, National Association | Pekin | Illinois.
Hickory Point Bank & Trust, FSB | Decatur | Illinois.
Marine Bank | Springfield | Illinois.
The Granville National Bank | Granville | Illinois.
The Poplar Grove State Bank | Poplar Grove | Illinois.
Washington Federal Bank for Savings | Chicago | Illinois.
Wheaton Bank & Trust Company | Northfield | Illinois.
Citizens State Bank of Shipman | Shipman | Illinois.
First National Bank of Litchfield | Litchfield | Illinois.
The Havana National Bank | Havana | Illinois.
First National Bank | Moline | Illinois.
First Community Bank and Trust | Beecher | Illinois.
AnchorBank, FSB | Madison | Wisconsin.
Baylake Bank | Sturgeon Bay | Wisconsin.
Bremer Bank, National Association | Menomonie | Wisconsin.
Community First Bank | Boscobel | Wisconsin.
Fidelity National Bank | Medford | Wisconsin.
First Citizens State Bank | Whitewater | Wisconsin.
Fox Valley Savings Bank | Fond du Lac | Wisconsin.
Guaranty Bank | Milwaukee | Wisconsin.
Home Savings Bank | Madison | Wisconsin.
International Bank of Amherst | Amherst | Wisconsin.
Ladysmith Federal Savings & Loan Association | Ladysmith | Wisconsin.
Markesan State Bank | Markesan | Wisconsin.
Merrill Federal Savings and Loan Association | Merrill | Wisconsin.
Middleton Community Bank | Middleton | Wisconsin.
PremierBank | Fort Atkinson | Wisconsin.
PyraMax Bank, FSB | Greenfield | Wisconsin.
The Farmers State Bank of Waupaca | Waupaca | Wisconsin.
The Peoples Community Bank | Mazomanie | Wisconsin.
Westbury Bank | West Bend | Wisconsin.
Federal Home Loan Bank of Des Moines—District 8
Atkins Savings Bank & Trust | Atkins | Iowa.
First State Bank | Sumner | Iowa.
Northwestern Bank | Orange City | Iowa.
Farmers & Traders Savings Bank | Bancroft | Iowa.
First State Bank | Hawarden | Iowa.
Community State Bank | Tipton | Iowa.
First Security Bank and Trust Company | Charles City | Iowa.
Page County Federal Savings Association | Clarinda | Iowa.
Security State Bank | Guttenburg | Iowa.
Community Savings Bank | Edgewood | Iowa.
Fidelity Bank & Trust | Dubuque | Iowa.
First National Bank of Ames | Ames | Iowa.
Guaranty Bank & Trust Company | Cedar Rapids | Iowa.
Cherokee State Bank | Cherokee | Iowa.
Solon State Bank | Solon | Iowa.
Citizens Bank | Sac City | Iowa.
Community Bank | Alton | Iowa.
Farmers & Merchants Savings Bank | Iowa City | Iowa.
First Federal Savings Bank of Iowa | Fort Dodge | Iowa.
Keystone Savings Bank | Keystone | Iowa.
Ashton State Bank | Ashton | Iowa.
Independence Federal Bank for Savings | Independence | Iowa.
Randall-Story State Bank | Story City | Iowa.
State Central Bank | Keokuk | Iowa.
Chelsea Savings Bank | Belle Plaine | Iowa.
Citizens State Bank | Wyoming | Iowa.
Community State Bank, NA | Ankeny | Iowa.
First American Bank | Fort Dodge | Iowa.
First Trust and Savings Bank | Coralville | Iowa.
Northwest Bank | Spencer | Iowa.
Webster City Federal Savings Bank | Webster City | Iowa.
First State Bank of Bigfork | Bigfork | Minnesota.
State Bank of Bellingham | Bellingham | Minnesota.
Farmers State Bank of Adams | Adams | Minnesota.
Security State Bank of Wanamingo | Wanamingo | Minnesota.
Viking Savings Bank | Alexandria | Minnesota.
First Independent Bank | Russell | Minnesota.
Minnwest Bank, MV | Redwood Falls | Minnesota.
Queen City Federal Savings Bank | Virginia | Minnesota.
The First National Bank of Deerwood | Deerwood | Minnesota.
Brainerd Savings & Loan Association, A Federal Association | Brainerd | Minnesota.
First National Bank Minnesota | St. Peter | Minnesota.
The First National Bank of Plainview | Plainview | Minnesota.
Highland Bank | Saint Michael | Minnesota.
Lake Elmo Bank | Lake Elmo | Minnesota.
Kanabec State Bank | Mora | Minnesota.
Prairie Sun Bank | Milan | Minnesota.
RiverWood Bank | Baxter | Minnesota.
State Bank of Faribault | Faribault | Minnesota.
Central Federal Savings and Loan Association of Rolla | Rolla | Missouri.
Home Savings & Loan Association of Norborne, FA | Norborne | Missouri.
Ozark Mountain Bank | Branson | Missouri.
Security Bank & Trust Company | Scott City | Missouri.
Guaranty Bank | Springfield | Missouri.
North American Savings Bank, FSB | Grandview | Missouri.
Security Bank of Pulaski County | Waynesville | Missouri.
Southern Bank | Poplar Bluff | Missouri.
Bank of New Madrid | New Madrid | Missouri.
Blue Ridge Bank & Trust Company | Independence | Missouri.
First Federal Bank, FSB | Kansas City | Missouri.
FMB Bank | Wright City | Missouri.
Horizon State Bank | Cameron | Missouri.
Jonesburg State Bank | Jonesburg | Missouri.
Lindell Bank & Trust Company | St. Louis | Missouri.
Ozark Bank | Ozark | Missouri.
F&M Bank and Trust Company | Hannibal | Missouri.
Montgomery Bank, NA | Sikeston | Missouri.
Midwest Federal Savings & Loan Association of St. Joseph | St. Joseph | Missouri.
Bank Forward | Hannaford | North Dakota.
The Ramsey National Bank & Trust Company of Devils Lake | Devils Lake | North Dakota.
Security State Bank | Dunseith | North Dakota.
The Goose River Bank | Mayville | North Dakota.
Alerus Financial, NA | Grand Forks | North Dakota.
The First State Bank of Munich | Munich | North Dakota.
The National Bank of Harvey | Harvey | North Dakota.
Starion Financial | Bismarck | North Dakota.
TCF National Bank | Sioux Falls | South Dakota.
Quoin Financial Bank | Miller | South Dakota.
Bryant State Bank | Bryant | South Dakota.
American State Bank | Oldham | South Dakota.
American State Bank of Pierre | Pierre | South Dakota.
Federal Home Loan Bank of Dallas—District 9
Corning Savings and Loan Association | Corning | Arkansas.
Southern Bancorp Bank of Arkansas | Arkadelphia | Arkansas.
First Bank | Camden | Arkansas.
First National Bank | Paragould | Arkansas.
First National Banking Company | Ash Flat | Arkansas.
One Bank & Trust, NA | Little Rock | Arkansas.
Priority Bank | Ozark | Arkansas.
The Bank of Star City | Star City | Arkansas.
United Bank | Springdale | Arkansas.
Farmers Bank & Trust Company | Magnolia | Arkansas.
Merchants and Farmers Bank | Dumas | Arkansas.
Diamond State Bank | Murfreesboro | Arkansas.
Beauregard Federal Savings Bank | DeRidder | Louisiana.
Citizens Progressive Bank | Columbia | Louisiana.
Fidelity Homestead Association | New Orleans | Louisiana.
Union Savings and Loan Association | New Orleans | Louisiana.
Citizens Bank and Trust Company | Springhill | Louisiana.
Home Bank | Lafayette | Louisiana.
BNA Bank | New Albany | Mississippi.
Bank of Yazoo City | Yazoo City | Mississippi.
First Federal Savings & Loan | Pascagoula | Mississippi.
BankFirst Financial Services | Columbus | Mississippi.
1st National Bank | Artesia | New Mexico.
Century Bank | Santa Fe | New Mexico.
Community First Bank Las Vegas | Las Vegas | New Mexico.
Western Bank of Clovis | Clovis | New Mexico.
American National Bank | Wichita Falls | Texas.
Commerce Bank | Laredo | Texas.
First Federal Bank Texas | Tyler | Texas.
First Security State Bank | Cranfills Gap | Texas.
Houston Community Bank, NA | Houston | Texas.
National Bank | Gatesville | Texas.
Texas Bank and Trust | Longview | Texas.
TrustTexas Bank, SSB | Cuero | Texas.
Alliance Bank | Sulphur Springs | Texas.
Angelina Savings Bank, FSB | Lufkin | Texas.
Colonial Savings, FA | Fort Worth | Texas.
Dalhart Federal Savings and Loan Association | Dalhart | Texas.
Fayette Savings Bank, SSB | La Grange | Texas.
First Bank & Trust Company | Lubbock | Texas.
First Command Bank | Fort Worth | Texas.
First National Bank of Mount Vernon | Mount Vernon | Texas.
Firstbank Southwest | Amarillo | Texas.
Guaranty Bond Bank | Mt. Pleasant | Texas.
Henderson Federal Savings Bank | Henderson | Texas.
Inwood National Bank | Dallas | Texas.
Lubbock National Bank | Lubbock | Texas.
National Bank & Trust | La Grange | Texas.
Pilgrim Bank | Pittsburg | Texas.
PointBank | Pilot Point | Texas.
Southwest Securities Bank | Arlington | Texas.
Texas Bank | Brownwood | Texas.
The First National Bank of Beeville | Beeville | Texas.
The First State Bank | Columbus | Texas.
The Morris County National Bank | Naples | Texas.
Affiliated Bank, FSB | Arlington | Texas.
East Texas Professional Credit Union | Longview | Texas.
Happy State Bank | Happy | Texas.
Prosperity Bank | El Campo | Texas.
The First National Bank of Weatherford | Weatherford | Texas.
First National Bank in Munday | Munday | Texas.
Gulf Coast Educators Federal Credit Union | Pasadena | Texas.
Federal Home Loan Bank of Topeka—District 10
Frontier Bank | Lamar | Colorado.
Pikes Peak National Bank | Colorado Springs | Colorado.
Vectra Bank Colorado | Denver | Colorado.
Colorado East Bank & Trust | Lamar | Colorado.
Gunnison Savings and Loan Association | Gunnison | Colorado.
Peoples National Bank | Colorado Springs | Colorado.
The First National Bank of Ordway | Ordway | Colorado.
Capitol Federal Savings Bank | Topeka | Kansas.
Caldwell State Bank | Caldwell | Kansas.
First Option Bank | Osawatomie | Kansas.
Kendall State Bank | Valley Falls | Kansas.
The Plains State Bank | Plains | Kansas.
First State Bank | Norton | Kansas.
The Bank of Tescott | Salina | Kansas.
First National Bank in Cimarron | Cimarron | Kansas.
Central Bank and Trust Company | Hutchinson | Kansas.
Citizens Savings and Loan Association, FSB | Leavenworth | Kansas.
Guaranty State Bank & Trust Company | Beloit | Kansas.
The Bank of Commerce & Trust Company | Wellington | Kansas.
Farmers Bank & Trust, NA | Great Bend | Kansas.
First National Bank of Syracuse | Syracuse | Kansas.
Mutual Savings Association, FSA | Leavenworth | Kansas.
Silver Lake Bank | Topeka | Kansas.
The University National Bank of Lawrence | Lawrence | Kansas.
Auburn State Bank | Auburn | Nebraska.
American Interstate Bank | Elkhorn | Nebraska.
Arbor Bank | Nebraska City | Nebraska.
Community Bank | Alma | Nebraska.
Nebraska Energy Federal Credit Union | Columbus | Nebraska.
Bruning State Bank | Bruning | Nebraska.
South Central State Bank | Campbell | Nebraska.
Butte State Bank | Butte | Nebraska.
Cedar Security Bank | Fordyce | Nebraska.
Clarkson Bank | Clarkson | Nebraska.
Enterprise Bank, NA | Omaha | Nebraska.
Points West Community Bank | Sidney | Nebraska.
First National Bank & Trust Company | Columbus | Nebraska.
Genoa National Bank | Genoa | Nebraska.
Western Heritage Credit Union | Alliance | Nebraska.
Community National Bank of Okarche | Okarche | Oklahoma.
Legacy Bank | Hinton | Oklahoma.
The Bankers Bank | Oklahoma City | Oklahoma.
First Bank & Trust Company | Clinton | Oklahoma.
First National Bank in Okeene | Okeene | Oklahoma.
American Bank of Oklahoma | Collinsville | Oklahoma.
Chickasha Bank and Trust Company | Chickasha | Oklahoma.
City National Bank & Trust Company | Lawton | Oklahoma.
Community Bank | Bristow | Oklahoma.
Anadarko Bank and Trust Company | Anadarko | Oklahoma.
Citizens Bank of Edmond | Edmond | Oklahoma.
Community Bank of the Arbuckles | Sulphur | Oklahoma.
Lakeside State Bank | Oologah | Oklahoma.
Republic Bank & Trust | Norman | Oklahoma.
High Plains Bank | Keyes | Oklahoma.
Triad Bank, NA | Tulsa | Oklahoma.
First National Bank of Oklahoma | Oklahoma City | Oklahoma.
Federal Home Loan Bank of San Francisco—District 11
Central Arizona Bank | Scottsdale | Arizona.
Gateway Commercial Bank | Mesa | Arizona.
Horizon Community Bank | Lake Havasu City | Arizona.
Metro Phoenix Bank | Phoenix | Arizona.
Mississippi Valley Life Insurance Company | Phoenix | Arizona.
Pacific Life & Annuity Company | Phoenix | Arizona.
Sunrise Bank of Arizona | Phoenix | Arizona.
The Foothills Bank | Yuma | Arizona.
Borrego Springs Bank, N.A. | Borrego Springs | California.
National Bank of California | Los Angeles | California.
Summit State Bank | Rohnert Park | California.
First Federal Savings & Loan Association of San Rafael | San Rafael | California.
North Valley Bank | Redding | California.
Pacific Premier Bank | San Bernardino | California.
Community Bank | Pasadena | California.
Metropolitan Bank | Oakland | California.
East West Bank | San Marino | California.
International City Bank | Long Beach | California.
CapitalSource Bank | Brea | California.
Chinatrust Bank (USA) | Torrance | California.
CoastHills Federal Credit Union | Lompoc | California.
Commerce Bank of Temecula Valley | Murrieta | California.
Evertrust Bank | City of Industry | California.
First Financial Credit Union | West Covina | California.
First Security Business Bank | Orange | California.
Fullerton Community Bank, FSB | Fullerton | California.
Golden State Bank | Upland | California.
Mendo Lake Credit Union | Ukiah | California.
Metro United Bank | San Diego | California.
Mission Oaks National Bank | Temecula | California.
Pacific Mercantile Bank | Costa Mesa | California.
River Valley Community Bank | Yuba City | California.
San Francisco Federal Credit Union | San Francisco | California.
Santa Clara County Federal Credit Union | San Jose | California.
Santa Clara Valley Bank, N.A. | Santa Paula | California.
SchoolsFirst Federal Credit Union | Santa Ana | California.
Sierra Vista Bank | Folsom | California.
SkyOne Federal Credit Union | Hawthorne | California.
Summit Bank | Oakland | California.
The Golden 1 Credit Union | Sacramento | California.
TomatoBank, National Association | Los Angeles | California.
Union Bank, N.A. | San Francisco | California.
First Security Bank of Nevada | Las Vegas | Nevada.
Meadows Bank | Las Vegas | Nevada.
Federal Home Loan Bank of Seattle—District 12
Mountain West Bank | Coeur D'Alene | Idaho.
Stockman Bank of Montana | Miles City | Montana.
First Security Bank | Bozeman | Montana.
Big Sky Western Bank | Bozeman | Montana.
First Federal Savings & Loan of McMinnville | McMinnville | Oregon.
Albina Community Bank | Portland | Oregon.
Pacific Continental Bank | Eugene | Oregon.
Home Savings Bank | Salt Lake City | Utah.
Valley Bank | Puyallup | Washington.
Raymond Federal Bank | Raymond | Washington.
First Savings Bank Northwest | Renton | Washington.
Timberland Bank | Hoquiam | Washington.

II. Public Comments

To encourage the submission of public comments on the community support performance of Bank members, on or before July 1, 2011, each Bank will notify its Advisory Council and nonprofit housing developers, community groups, and other interested parties in its district of the members selected for community support review in the 2010 third round review cycle. 12 CFR 1290.2(b)(2)(ii). In reviewing a member for community support compliance, FHFA will consider any public comments it has received concerning the member. 12 CFR 1290.2(d). To ensure consideration by FHFA, comments concerning the community support performance of members selected for the 2010 third round review cycle must be delivered to FHFA, either by hard-copy mail at the Federal Housing Finance Agency, Housing Mission and Goals, 1625 Eye Street, NW., Washington, DC 20006, or by electronic mail to hmgcommunitysupportprogram@fhfa.gov on or before the August 1, 2011 deadline for submission of Community Support Statements.

Dated: June 13, 2011.
Edward J. DeMarco,
Acting Director, Federal Housing Finance Agency.

[FR Doc. 2011-15083 Filed 6-16-11; 8:45 am]

BILLING CODE 8070-01-P